FEDERAL ELECTION COMMISSION

Sunshine Act Meeting

AGENCY: Federal Election Commission.

DATE and TIME: Thursday, June 7, 2012 at 10:00 a.m.

PLACE: 999 E Street NW., Washington, DC (Ninth Floor).

STATUS: This meeting will be open to the public.

ITEMS TO BE DISCUSSED: Correction and Approval of the Minutes for the Meeting of May 24, 2012.

Draft Advisory Opinion 2012-17: Red Blue T LLC, Armour Media, Inc., and m-Qube, Inc.

Draft Advisory Opinion 2012-18: National Right to Life Committee, Inc.

Draft Advisory Opinion 2012-19: American Future Fund.

Audit Division Recommendation Memorandum on The Legacy Committee Political Action Committee (A09-22).

Audit Division Recommendation Memorandum on The Democratic Executive Committee of Florida (DECF) (A08-03).

Audit Division Recommendation Memorandum on The Los Angeles County Democratic Central Committee (A09-07).

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-13621 Filed 6-5-12; 8:45 am]

BILLING CODE 6715-01-M